DEPARTMENT OF DEFENSE

Department of the Navy

Record of Decision for the Disposal and Re-use of Naval Station Treasure Island, CA

AGENCY: Department of the Navy, DoD.

ACTION: Notice of Record of Decision.

SUMMARY: The Department of the Navy (DON) pursuant to section 102(2)(c) of the National Environmental Policy Act (NEPA) of 1969, 42 United States Code (U.S.C.) 4332(2)(c), and the Council on Environmental Quality regulations (40 CFR parts 1500-1508), announces its decision to dispose of Naval Station Treasure Island (NSTI), which includes both Treasure Island and Yerba Buena Island. NSTI is located midway between the shores of the cities of San Francisco and Oakland. The disposal of NSTI will be accomplished in a manner that will allow the Treasure Island Development Authority (TIDA), the redevelopment authority established by the State of California and recognized by DoD, to reuse the property as set out in Alternative 1, described in the Final Environmental Impact Statement (FEIS) as the preferred alternative. The decision by DON to dispose of the property in a manner that allows TIDA to reuse the property as described in the preferred alternative does not make the DON responsible for any obligation or commitment, fiscal or other, made by TIDA to the State of California or to third parties. Obligations or commitments made by TIDA in the course of developing its redevelopment plan, or in obtaining approval of the redevelopment plan from the United States Department of Housing and Urban Development (HUD), remain the responsibility of TIDA.

FOR FURTHER INFORMATION CONTACT: Mr. Patrick McCay, telephone 619-532-0906; E-Mail: patrick.mccay@navy.mil or write to: Director, BRAC PMO West, ATTN: Mr. Patrick McCay, 1455 Frazee Road, Suite 900, San Diego, CA 92108.

SUPPLEMENTARY INFORMATION: The 1993 Defense Base Realignment and Closure Commission (BRAC 93 Commission) recommended the closure of NSTI. President Clinton approved this recommendation and the 103rd Congress accepted it on September 27, 1993. NSTI closed on September 30, 1997, and DON is in the process of disposing of the property to meet the requirements of the Defense Base Closure Realignment Act (DBCRA) of 1990 to reduce and realign United States military operations and enable productive reuse of this surplus Federal property.

On July 11, 1994, the majority of land and facilities at this installation were declared surplus to the needs of the Federal Government. State and local governments, representatives of the homeless, and other interested parties located in the communities in the vicinity of the installation were eligible for use of the property. The Base Closure Community Redevelopment and Homeless Assistance (BCCRAHA) Act of 1994 (Pub. L. 103-421) amends DBCRA of 1990, exempting base closure property from the McKinney Act and establishing a process that requires a balancing of homeless assistance needs with the need of the communities in the vicinity of the installation for economic redevelopment and other development.

Representatives of the homeless submit notices of interest for the installations to the redevelopment authority. The definition of redevelopment authority (generally referred to as a local redevelopment authority or LRA) is found in section 2910 of the amended DBCRA of 1990 (Pub. L. 101-510).

In 1997, California State Legislation created a special LRA for NSTI, transferring the LRA status from San Francisco, to TIDA. In March of 1998, DOD's Office of Economic Adjustment recognized TIDA as the implementing LRA for NSTI. For the purposes of this Record of Decision, DON will refer to TIDA as the LRA for NSTI.

Notices submitted to the LRA contain detailed information regarding the assistance program that the representative of the homeless proposes to carry out at the installation. The LRA, not the Federal Government, may address those notices of interest regarding needs either on or off base, and is responsible for screening to meet the needs of the homeless. Additionally, the BCCRAHA Act of 1994 requires that an LRA prepare a redevelopment plan for a closing installation that considers the expressed needs of the homeless, and that this plan be approved by HUD. Obligations or commitments made by TIDA in the course of developing its redevelopment plan, or in obtaining approval of the redevelopment plan from HUD, remain the responsibility of TIDA.

Before disposal of any real property, DON must analyze the environmental effects of the disposal action. As required by DBCRA, DON has treated the 1996 Draft Reuse Plan as part of the proposed Federal action for the installation.

The city and county of San Francisco prepared an Environmental Impact Report (EIR) for the transfer and reuse of NSTI. The proposed action and alternatives were essentially identical to that of DON's EIS. The EIR was recently certified in May 2005.

Master development plans for TIDA have continued to evolve since July 2002, as reflected in the preparation of initial studies, master development submittals and public workshops. The development plans do not show substantial changes to the overall proposed land use assumptions. The city and county of San Francisco will prepare a second EIR; specific to the proposed development, once the development plans have become sufficiently detailed.

Alternatives Considered: A screening process, based upon criteria set out in the Draft EIS, was conducted to identify a reasonable range of alternatives that would satisfy DON's purpose and need regarding property disposal.

Alternative 1, the Preferred Alternative, reflects disposal of the property in the context of the redevelopment scenario described in the 1996 Draft Reuse Plan developed by the LRA. Alternative 1 features a post-disposal reuse of publicly oriented development (155 acres), open space and recreation (118 acres), institutional and community uses (40 acres), and residential development (137 acres) at full build out. This scenario represents the most intensive redevelopment scenario proposed in the FEIS. Actual redevelopment by an entity would likely reflect this intensity, but may not reflect the specific conceptual construction types provided in the 1996 Draft Reuse Plan.

Alternative 2 presents less intensive post-disposal reuse than Alternative 1, but has similar land uses and development concepts. Alternative 2 was developed during the scoping process, including the recommendations of an advisory panel convened by the Urban Land Institute. Under this scenario, no new housing would be built at NSTI, and the existing housing would be reused initially (21 acres).

Alternative 3 represents a scenario where little new post-disposal development would occur and existing facilities would be used. No new housing units would be constructed.

The No Action alternative represents a scenario that maintains the status quo with DON retaining ownership of NSTI. Those structures subject to an existing lease would continue to be leased until such lease expires or is terminated. Those structures not subject to an existing lease would be maintained in a caretaker status. No demolition or construction would occur, except as allowed by existing lease authorization. Approximately 50 persons would be assigned to perform caretaker activities. The No Action Alternative would have no significant impacts; therefore, it is the environmentally preferred alternative.

Environmental Impacts: DON analyzed the direct, indirect, and cumulative impacts of the disposal action on the environment. Potentially significant impacts associated with Alternative 1, the alternative selected in this Record of Decision, are summarized below.

Land Use/Zoning: The anticipated land use zone classifications required for redevelopment as illustrated in Alternative 1 (i.e., public, residential, mixed use) would be inconsistent with the existing city and county of San Francisco General Plan designation and zoning classification. The General Plan land use designation for NSTI is military. Amendments to the General Plan, using the public process established by the State of California for such amendments, would be required before redevelopment could occur.

Subsequent to the Naval Appropriations Act of 1942 (Pub. L. 441) in which Congress appropriated funds for the acquisition of Treasure Island, the Government pursued the condemnation process for the property now known as NSTI in the United States District Court of San Francisco. The declaration of taking was filed on April 17, 1942. The parties reached a joint settlement of the condemnation case on April 3, 1944. As compensation for the taking, the Government completed construction of 10 million dollars of permanent improvements at San Francisco Airport. Chapter 3 of the California Statutes of 1942 authorized the transfer of Treasure Island to the government including all tide and submerged lands and further stated that the transfer: Shall be free and clear of all conditions and reservations respecting the title to or use of said lands.

The State made no provisions for the reservation of a tideland trust or public trust easement over tidelands or submerged land nor was there any reversion rights contained in the statute. Therefore, the DON's position is that the United States acquired full fee simple absolute title to all the property, including the tidelands and submerged lands, and that the property would not be subject to the public trust upon disposal by DON. The State of California, however, considers all former and existing tide and submerged lands on Treasure Island to be subject to the public trust in the event of a transfer of the property from DON.

The Treasure Island Conversion Act of 1997 (1997 Cal. Stat. 898, AB 699), granted TIDA the power to administer and control property at NSTI, identified by the State of California as land that will be subject to the public trust upon its release from Federal ownership. Under the 1997 Act, existing buildings and structures located on public trust lands which are incapable of being devoted to trust purposes may be used for other purposes, consistent with the reuse plan, for their remaining useful life. If the trust were deemed to apply, this would not be expected to have a substantial effect on future land use patterns on NSTI.

Similarly, the Treasure Island Public Trust Exchange Act (2004 Cal. Stat. 543, SB 1873), authorized an exchange of public trust lands whereby certain trust lands on NSTI would be freed from the public trust in exchange for encumbering other lands on Yerba Buena Island that are not now public trust lands. The Act specifically approved an exchange resulting in the configuration of trust lands substantially similar to that depicted on the diagram in section 12 of the Act. If the trust were deemed to apply, such an exchange would not be expected to have a substantial effect on future NSTI land use patterns.

Traffic: The proposed action would result in peak hour traffic volumes on the San Francisco-Oakland Bay Bridge (SFOBB)/Interstate-80 Yerba Buena Island westbound on-ramp, on the west side of Yerba Buena Island, that would exceed the current ramp capacity of 330 vehicles per hour (vph). The projected demand would result in a queue ranging from 7 vehicles (during the AM peak hour) to 239 vehicles (during the weekend midday peak hour). This queue would constrain vehicular circulation on the island.

Alternative 1 would result in a substantial increase in traffic volumes on the eastbound off-ramp on the west side of Yerba Buena Island that would exceed the practical capacity of the off-ramp (500 vph), resulting in a maximum queue of 36 vehicles, or about 700 feet (219 meters) of the SFOBB.

Alternative 1 would result in substantial increases in traffic volumes during the weekend, midday, peak hour on the eastbound on-ramp on the east side of Yerba Buena Island. While the increased volumes would be accommodated by the upgrade of this ramp as part of the California Department of Transportation's (Caltrans) SFOBB East Span project, it may create a secondary impact of potential traffic delays on the SFOBB.

Under Alternative 1, increased traffic on and off the SFOBB during the A.M. peak period (6:30 to 9:30) and P.M. peak period (3:30 to 6:30) would cause westbound traffic on segments of the SFOBB to deteriorate from Level of Service (LOS) D to LOS F during the last hour of the A.M. peak period (8:30 to 9:30) and to deteriorate from LOS B to LOS E or LOS F during the first hour of the P.M. peak period (3:30 to 4:30). LOS designations are a qualitative description of a facility's performance, based on travel speeds, delays, and density (number of cars per unit of lane). The designation for a facility ranges from LOS A, representing free-flow conditions, to LOS F, representing severe traffic congestion.

Due to a lack of direct bus service between NSTI and the East Bay, bus patrons would have to travel to San Francisco using existing routes, transferring at the Transbay Terminal to another transit service to the East Bay, or to drive, which would add to the vehicular demand and congestion at the Yerba Buena Island ramps. Approximately 4,290 weekday daily and 4,000 weekend daily bus transit patrons are estimated between NSTI and the East Bay.

Natural Resources: Significant impacts to mudflat habitat, including eelgrass beds, may occur as a result of increased pedestrian and boating activity around Clipper Cove. The enlarged marina would add approximately 200 new boat slips and 100 new tie-up buoys to the existing 100 slips and would quadruple boat traffic in Clipper Cove. This would increase the potential for mudflat habitat disturbance, especially during low tides when recreational boating traffic could erode nearshore sediments, which could directly affect invertebrate prey species in shallow water.

Increased pedestrian and boating activity around Clipper Cove could have a significant impact on shore and water birds by affecting mudflats and eelgrass beds where shorebirds forage. An increase in pedestrian activities from new residents or visitors could result in more people exploring the mudflats during low tide, disturbing avian species and sensitive habitat zones. In addition, the quadrupled boat traffic could erode nearshore sediment during low tide, affecting invertebrate and fish populations, resulting in a decrease of food sources for migratory birds, and decrease in foraging success.

Increased boat and pedestrian activity around Clipper Cove could have a significant impact on essential fish habitat by degrading eelgrass vegetated areas and shallow water in the same manner that mudflat habitat could be impacted. These areas provide important fish spawning, rearing, and foraging habitat.

Public Safety: Significant impacts could occur in the form of damage to structures and infrastructure on Treasure Island due to liquefaction induced ground failure in the event of a major earthquake. Low-lying areas of Yerba Buena underlain by heterogeneous artificial fill are also potentially subject to liquefaction, lateral spreading, and differential settlement hazards.

The installation of residential development in low lying areas would result in net increased exposure of approximately 3,000 residents, 13,799 daily visitors, and property to both ponding and flooding hazards due to seepage or overtopping of the dike. While nearby bodies of surface water will probably not be significantly impacted, the exposure to these types of hazards is potentially significant.

Hazardous Waste: Construction activities at NSTI associated with future development of the housing unit area, including demolition of existing structures, may interfere with remedial actions under the Comprehensive Environmental Response, Compensation, and Liability Act (CERCLA).

CERCLA Remediation Actions: The following measures have been developed to mitigate potentially significant impacts to remedial actions under the CERCLA program. DON is in the process of implementing various remedial actions at NSTI pursuant to and in accordance with the requirements of CERCLA and the National Oil and Hazardous Substances Pollution Contingency Plan that will remove, manage, or isolate any potentially hazardous substances present on the property prior to conveyance. These remedial actions will ensure that human health and the environment will be protected based on the land use redevelopment scenario illustrated in the 1996 Draft Reuse Plan. If the CERCLA remedy for a particular site includes land use controls, the acquiring entity or entities will be required to comply with the land use controls during construction and/or operations to ensure continued protection of human health and the environment. Subsequent redevelopment of the existing housing area that would involve demolition of existing structures and the grading and reconfiguring of the soil would likely be subject to land use controls on the property. These may include compliance with a city administered soil management plan that would require permits for soil and groundwater disturbance, subject to proper characterization and management. In addition, deeds conveying the affected property will contain a notice that areas of the property not subject to remediation efforts, such as areas beneath existing foundations, may require additional characterization and possible response actions, subject to appropriate regulatory oversight. Adherence to land use controls and regulatory requirements would mitigate potentially significant impacts to an acceptable level.

Mitigation: As a result of the identification of a number of potentially significant impacts associated with Alternative 1, DON has identified measures that can assist the new property owner(s) in mitigating reuse impacts. As DON cannot exercise control over the property once title has been transferred, DON cannot be responsible for implementation of mitigation identified in the FEIS. The following mitigation measures have been identified for possible implementation by the entity (or entities) acquiring the property:

To achieve consistency between the selected reuse Alternative 1 and city policies, it will be necessary to amend the San Francisco General Plan to include land use designations consistent with the 1996 Draft Reuse Plan for Treasure Island and Yerba Buena Island, prior to approving land use actions.

SFOBB/Interstate-80 Yerba Buena Island on-ramps are substandard by current Caltrans standards; primarily in acceleration/deceleration lengths, ramp radii, and sight distances. Upgrading the on-ramps would increase ramp capacity and level of operation and decrease queuing impacts. However, upgrades to the on-ramps may be constrained by the geology of the site (elevation change and bedrock), and structural limitations due to the viaduct. Additional measures would include signage and notices to residents to encourage residents and visitors to use the second westbound on-ramp east of the Yerba Buena Island tunnel. Similarly, redirecting traffic during the weekend, midday, peak hour to the second on-ramp east of the Yerba Buena Island tunnel would reduce the queue at the first westbound on-ramp. Further measures include implementation of a Transportation Demand Management (TDM) program to further reduce traffic generation during peak hours, especially during the weekend. Implementation of additional or enhanced TDM measures include discounted ferry passes, flex-time, public relations campaigns, and giving employees working on Treasure Island or Yerba Buena Island preferential access to housing on NSTI. Such measures would encourage ferry use and encourage vehicle trips during the non-peak period, to reduce queues on both westbound on-ramps to tolerable levels. Additional measures include monitoring NSTI ramp traffic volumes to ensure that the transportation goals and objectives established by the 1996 Draft Reuse Plan are successfully implemented; monitoring NSTI bus transit demand on an annual basis (or at each phase of development) and ensuring that planned bus services are implemented to meet or exceed demand; implementing a similar monitoring program for ferry demand; restriping the portion of Treasure Island Road between the Main Gate and the westbound on-ramp on the west side of the Yerba Buena Island tunnel from two lanes to accommodate three traffic lanes; and, using traffic control measures, such as signage, to encourage eastbound motorists to use the second Yerba Buena Island off-ramp (the off-ramp on the east side of Yerba Buena Island). Implementation of TDM and monitoring measures discussed above would help reduce traffic volumes on this off-ramp.

In order to improve traffic volumes during the weekend, midday, peak hour on the eastbound on-ramp on the east side of Yerba Buena Island, Caltrans should consider the installation of a ramp metering device if the added traffic onto this on-ramp would cause significant traffic delay on the SFOBB mainline. The mainline includes the main lanes of a freeway as opposed to an off ramp or exit lane. A ramp metering device would restrict/govern the number of vehicles accessing the SFOBB for the benefit of maintaining free flow conditions on the SFOBB.

To alleviate increased traffic on and off the SFOBB during peak A.M. conditions, causing westbound traffic segments to deteriorate, traffic volumes should be monitored at each phase of development. If it is determined that traffic from NSTI is constraining the capacity of the SFOBB, either more aggressive TDM and transit improvements must be implemented or additional development should be delayed until such improvements are implemented.

Establishing direct transit service between NSTI and the East Bay would mitigate the lack of current direct service to a not significant level. Bus service would need to be at 10-minute headways (the interval between the trips of 2 successive vehicles) throughout the day during the weekday and at 15-minute headways throughout the day during the weekend. Additional measures include monitoring NSTI bus transit demand on an annual basis (or at each phase of development), ensuring planned services are implemented to meet or exceed demand, and implementing TDM measures to encourage bus transit. If monitoring indicates an imbalance between transit service and demand, the city and county of San Francisco could limit planned land use development on NSTI until required services are funded.

In response to comments from Bay Area Air Quality Management District (BAAQMD), DON has identified additional potential mitigation measures not discussed in the FEIS. DON recommends that future redevelopment projects implement the measures set out in sections 4.3 and 4.4 of the BAAQMD California Environmental Quality Act (CEQA) Guidelines: Assessing the Air Quality Impacts of Projects and Plans (BAAQMD 1999). First, as indicated in section 4.3 of the CEQA Guidelines, incorporate transit-oriented development in project design. This strategy is intended to reduce automobile usage associated with suburban land uses by integrating residential and commercial land uses with transportation routes and making communities more amenable to transit, bicycle, and pedestrian activities. Second, as indicated in section 4.4 of the BAAQMD CEQA Guidelines, measures identified in Tables 15, 16, and 17 to reduce vehicular emissions from commercial, institutional, industrial, and residential uses should be implemented in project-specific phases.

Implementation of these transportation measures would ensure that the proposed actions would not contribute to significant cumulative air quality impacts within the region.

To minimize significant impacts to mudflat habitat and eelgrass beds, several measures are recommended for the entity acquiring the land and applying for regulatory permits that will be required to allow development in sensitive areas. Measures include minimizing disturbance to sensitive habitats during construction and preparing and implementing a plan to minimize disturbance of sensitive habitats due to recreational activity. The permittee for the development projects for Clipper Cove could be required to post signs along the shore adjacent to the mudflats and at the marina to inform pedestrians and recreational boaters that the mudflats are a protected sensitive area and trespassing is not permitted. Buoys could be placed in the bay to identify the restricted mudflat area. A “No Wake” zone could be established in Clipper Cove to minimize shoreline and mudflat erosion. A “No Wake” speed (not exceeding 5 miles per hour) is the speed at which a vessel does not produce a wake. Any impacts related to construction or fill would be addressed during the Army Corps of Engineers section 404 permitting process.

Impacts on migratory birds from pedestrian and boating activities are closely associated with impacts on mudflat habitat and eelgrass beds. Impacts on migratory birds will be mitigated through compliance with all applicable laws, regulations, and regulatory permits. Additional mitigation may include posting signs along the shore adjacent to the mudflats and at the marina, informing pedestrians and boaters that the mudflats are a protected and sensitive area. Placing buoys in the bay, identifying the mudflat area as restricted and establishing a “No Wake” zone in Clipper Cove could also reduce impacts.

Mitigation measures for increased boat and pedestrian activity on eelgrass areas, mudflats, and shallow water areas are the same as those proposed to mitigate impacts to mudflat areas.

A zone of “improved ground” would be created around the perimeter of the island to reduce lateral spreading. Interior island areas shall be similarly improved to reduce large differential settlement. All sensitive structures, such as buildings greater than three stories, buildings intended for public occupancy, structures supporting essential services, and buildings housing schools, medical, police, and fire facilities, shall be supported on pile systems or other specially designed foundations. Detailed geotechnical studies shall be completed in accordance with the city and county of San Francisco requirements for individual development sites.

Filling low-lying portions of the residential area to at least 9 feet (3 meters) National Geodetic Vertical Datum (NGVD) prior to development would mitigate the increased exposure of occupants, visitors, and property to ponding hazards due to seepage through the dike during some high tide events. In addition, other low-lying areas within 500 feet (152 meters) of the Treasure Island perimeter should be similarly filled before development is allowed.

A setback for development inboard of the perimeter dike, to allow room for periodic dike raising without substantially increasing bay fill, would reduce impacts caused by exposure of people and property to flooding hazards due to dike overtopping during storms. Other measures include raising the dike as necessary to account for site settlement or for changes in maximum tidal heights and rises in sea levels; inspecting the dike after each major storm to identify repair needs; and repairing the dike promptly as required.

Response to comments received regarding the Final Environmental Impact Statement: Below is a summary of substantive public comments received in response to the release of the FEIS, as well as DON responses to comments.

The Department of Toxic Substances Control (DTSC) commented that Installation Restoration (IR) Site 30 should be represented as an active site until the CERCLA process is complete. DON agrees with this comment and will ensure that IR Site 30 is fully addressed under CERCLA, including the preparation of a Remedial Investigation and Feasibility Study to determine what, if any, action is necessary.

DTSC requested additional information regarding polychlorinated biphenyls (PCBs) and asked DON to demonstrate that PCBs are not an issue. DON addressed PCBs in section 4.13 of the FEIS. All PCB release sites have been identified at NSTI, and surveys are being completed. All PCB sites requiring a response will be remediated under CERCLA prior to property conveyance. Additionally, DON will comply with all applicable provisions of the Toxic Substances Control Act (TSCA) (15 U.S.C. 2605) and other applicable laws and regulations designed to minimize the risks posed by PCBs.

DTSC commented that it intends to hold any future owners of the property liable for lead in soil around residential and non-residential property and asked that the FEIS be modified to reflect that intent. HUD regulations (Title X, 42 U.S.C. 4851) and the DOD/United States Environmental Protection Agency (USEPA) “LBP” Joint Interim Final Field Guide (1999) set out the standards and responsibilities regarding lead based paint. Inasmuch as those standards and responsibilities are fully discussed in the FEIS, modification of the FEIS is not necessary.

The BAAQMD commented that without mitigation, emissions from any of the three project alternatives would contribute to significant cumulative degradation of regional air quality. BAAQMD also commented that it was unable to determine how the project emissions presented in Table 4.6-1 were obtained. Table 4.6-1 of the FEIS was based on a mobile source emissions inventory generated by Radian International (1997) for DON. The data was adjusted to consider variations in project alternative operational characteristics between 2001 and 2010.

The TDM program and other transportation mitigation measures recommended in the FEIS (and discussed above) would reduce vehicle trips and associated vehicle miles generated by the project and would increase the flow of future traffic within the project region. Implementation of these transportation measures would reduce project emissions from the unmitigated levels presented in Table 4.6-1. In response to this comment from BAAQMD, DON identified additional potential mitigation measures and included them in the preceding mitigation discussion.

One individual commented that the FEIS failed to address a “Maximum Homeless-Use” Alternative. The individual cites the BCCRHA Act of 1994, which mandates that a redevelopment plan take into consideration a number of homeless issues, including the size and nature of the homeless population in the local communities, the availability of existing homeless services, and the suitability of the redevelopment plan for the use and needs of the homeless. Chapter 2.2.1 of the FEIS describes the Homeless Assistance planning process, including the opportunities for local communities to participate in the decision regarding disposal of military properties by requiring homeless providers to work through TIDA. As previously stated, the extent of the DON's role in meeting homeless assistance needs is limited by the review conducted by HUD. Representatives of the homeless submit notices outlining their needs and proposals to TIDA and not to the Federal agency that owns the property. TIDA may address those needs either on or off base. TIDA, as the LRA, must prepare a redevelopment plan for the closing installation that considers the expressed needs of the homeless. DON has a role if and only if HUD determines that the redevelopment plan submitted by TIDA does not meet regulatory criteria set forth at 24 CFR part 586 and TIDA fails to revise the redevelopment plan in a manner that HUD determines meets those regulatory requirements.

On November 1, 1995, the Treasure Island Homeless Development Initiative (TIHDI) submitted a Notice of Interest to the LRA for surplus property including homeless housing, support services, employment, and economic development programs and services. On November 26, 1996, HUD approved the San Francisco Office of Military Base Conversion's homeless assistance submission including its proposed agreements with TIDHI. TIDA was not established as the LRA until the 1998, at which time they inherited the approved plan. Currently, TIHDI operates one of the most intensive San Francisco homeless provider initiatives at Treasure Island. In addition to a day care center, TIHDI manages 190 units housing formerly homeless individuals. DON has met the requirements of both NEPA and BCCRHA Act in its analysis of homeless requirements through the consideration of the 1996 Draft Reuse Plan. Under the requirements of DBCRA of 1990, as amended, any entity responsible for developing NSTI or implementing the redevelopment plan would be bound by the homeless assistance requirements set forth in the BCCRHA Act.

The San Francisco Municipal Railway Service Planning (MUNI) staff commented that it currently provides bus service between the NSTI and Transbay Terminal in San Francisco for residents and visitors to the island. They concur that bus service may need to increase to meet demand under the proposed redevelopment plan for NSTI. MUNI also comments that they cannot commit to any service expansion to the East Bay without a concurrent commitment of funding from an identified source. Determining funding for increased bus service is beyond the scope of this FEIS and should be addressed by the city and county of San Francisco in a subsequent CEQA analysis to ensure the effectiveness of the transportation mitigation measures associated with the proposed maximum build-out scenario. MUNI requested a breakdown of bus service demands in the FEIS analysis by mode, direction, and time of day. The FEIS provided estimates of MUNI bus demand based on three different levels of development for NSTI. These development scenarios were designed to evaluate a range of potential environmental impacts, from low to high. The actual development (both land uses and quantities of land uses) that will be approved by the city and county of San Francisco may ultimately differ from those analyzed in the FEIS. Consequently, MUNI demand and transit usage patterns could be different from those presented in the FEIS. The Reuse Plan assumes that ferry services will be a travel mode between San Francisco and NSTI, in addition to bus services. Bus passenger estimates were made for bus trips to and from NSTI, not within NSTI. MUNI bus demand should be analyzed in depth when the city and county approve specific development plans for NSTI, based on the approved land use. This would include both trips to and from NSTI as well as internal shuttle bus demand.

Conclusion: After considering the analysis contained in the FEIS, comments from Federal, State, and local agencies, and comments from the public, I conclude that Alternative 1 is the NEPA alternative that best meets DON's purpose and need regarding disposal of the NSTI property while allowing TIDA to execute redevelopment that will provide the best opportunity for economic recovery from the closure of NSTI. While Alternative 1 presents the potential for significant impacts in several respects, especially traffic, reuse of the property in accordance with TIDA's reuse plan can be accomplished without significant harm to the environment through implementation of the mitigation measures by TIDA or subsequent developers.

Although the No Action alternative is the environmentally preferred alternative, it would not meet DON's purpose and need regarding property disposal and would preclude the economic recovery intended by Congress when it enacted the DBCRA 1990. The No Action alternative would result in continued caretaker activities; therefore, socioeconomic gains in terms of new jobs and increased revenue in the region from disposal and subsequent reuse of NSTI would not be realized.

Dated: November 17, 2005.
Eric Mcdonald,
Lieutenant Commander, Judge Advocate General's Corps, U.S. Navy, Federal Register Liaison Officer.

[FR Doc. E5-6507 Filed 11-23-05; 8:45 am]

BILLING CODE 3810-FF-P